DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 9, 2012 through April 13, 2012.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
81,206 | Stern-Leach, Cookson Precious Metals, Cookson America, Adecco Staffing, Qualified, etc | Attleboro, MA | February 10, 2011.
81,206A | Hallmark Sweet, Cookson Precious Metals, Cookson America, Adecco Staffing, Qualified, etc | Attleboro, MA | February 10, 2011.
81,206B | Stern Metals, Cookson Precious Metals, Cookson America, Adecco Staffing, Qualified, etc | Attleboro, MA | February 10, 2011.
81,283 | SolarWorld Industries America LP, ProHire and Kelly Services | Camarillo, CA | February 13, 2010.
81,293 | NCO Financial Systems, Inc., Innosource | Canonsburg, PA | February 2, 2011.

The following certifications have been issued. The requirements of Section 222(a)(2)(B) (shift in production or services) of the Trade Act have been met.

TA-W No. | Subject firm | Location | Impact date
81,274 | Aosom LLC, Ningbo MH Industry Co., NW Staffing, Begin Right, Office Team, etc | Lake Oswego, OR | January 26, 2011.
81,358 | Clipper Windpower, LLC, Accounts Payable Department, On-Site Workers of Appleone and Accountemps | Carpinteria, CA | February 21, 2011.
81,367 | Infinite Convergence Solutions, Inc., Messaging Software Division, Infinite Computer Solutions, Inc | Arlington Heights, IL | February 27, 2011.
81,408 | Syngenta Crop Protection LLC, Including On Site Leased Workers of Olsten, Adecco and HR Group | Greensboro, NC | March 12, 2011.
81,415 | Covidien, Medical Devices Sector, Vascular Therapies Division, Kelly Services | Mansfield, MA | March 13, 2011.
81,417 | Nilfisk-Advance Incorporated, On Site: E-Technical, Apple One, Ware Technology Services and Staffing | Plymouth, MN | October 1, 2011.
81,419 | Panduit Corporation, Tinley Park Manufacturing Division, On-Site Workers from Aerotek, Inc | Tinley Park, IL | November 25, 2011.
81,419A | Panduit Corporation, New Lenox Production Division, Cable Tie Division, Areotek, Inc | New Lenox, IL | November 25, 2011.
81,425 | Becromal of America, Inc., Resource MFG | Clinton, TN | March 15, 2011.
81,430 | Vectron International | Hudson, NH | March 19, 2011.
81,435 | Albany International, Corrugated Belts Division | Albany, NY | May 22, 2012.
81,440 | KRACO Enterprises, LLC, A Subsidiary of Sun Capital Partners, Inc | Compton, CA | March 21, 2011.
81,446 | WellPoint, Inc., NE Enrollment and Billing Division, Aerotek, Kelly and Populus Group | North Haven, CT | March 22, 2011.
81,456 | Siltronic Corporation, FAB1 Plant, Express Temporaries and Aerotek Commercial, etc | Portland, OR | March 28, 2011.
81,465 | Anthem Blue Cross and Blue Shield, Wellpoint, Inc., Service Operations, Blue Cross and Blue Shield in Georgia | Richmond, VA | April 29, 2011.
81,470 | Capewell Horsenails, Inc., Mustad USA, Premiere Staffing, Kelly Staffing, Lauren Staffing, etc | Bloomfield, CT | March 27, 2011.

Negative Determinations for Worker Adjustment Assistance

In the following cases, the investigation revealed that the eligibility criteria for worker adjustment assistance have not been met for the reasons specified.

The investigation revealed that the criteria under paragraphs (a)(2)(A) (increased imports) and (a)(2)(B) (shift in production or services to a foreign country) of section 222 have not been met.

TA-W No. | Subject firm | Location | Impact date
81,427 | Bremner Food Group Inc | Fort Smith, AR
81,433 | Afni, Inc., Experis | San Antonio, TX

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
81,391 | Shape Corporation | Grand Haven, MI

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
81,371 | Flo-Pro, Inc., A Division of Introcan, Motor Parts of America, Inc | Bedford, NH

The following determinations terminating investigations were issued because the petitions are the subject of ongoing investigations under petitions filed earlier covering the same petitioners.

TA-W No. | Subject firm | Location | Impact date
81,485 | Convergys Corporation, Microsoft Answer Desk Project | Ogden, UT

I hereby certify that the aforementioned determinations were issued during the period of April 9, 2012 through April 13, 2012. These determinations are available on the Department's Web site tradeact/taa/taa search form.cfm. under the searchable listing of determinations or by calling the Office of Trade Adjustment Assistance toll free at 888-365-6822.

Dated: April 18, 2012.
Michael W. Jaffe,
Certifying Officer, Office of Trade Adjustment Assistance.

[FR Doc. 2012-10165 Filed 4-26-12; 8:45 am]

BILLING CODE 4510-FN-P